DEPARTMENT OF ENERGY

Federal Energy Regulatory Commission

[Project No. 2219-046]

Garkane Energy Cooperative, Inc.; Notice of Application Accepted for Filing, Soliciting Comments, Motions To Intervene, and Protests

Take notice that the following hydroelectric application has been filed with the Commission and is available for public inspection:

a. Type of Application: Request for Amendment of License.

b. Project No.: 2219-046.

c. Date Filed: June 29, 2015.

d. Applicant: Garkane Energy Cooperative, Inc. (licensee).

e. Name of Project: Boulder Creek Hydroelectric Project.

f. Location: Garfield County, Utah.

g. Filed Pursuant to: Federal Power Act, 16 U.S.C. 791(a)-825(r).

h. Applicant Contact: Daniel R. Simon, Counsel for licensee, (202) 739-2813, or dsimon@stroock.com.

i. FERC Contact: Erich Gaedeke, (503) 552-2716, or erich.gaedeke@ferc.gov.

j. Deadline for filing comments, motions to intervene, protests, and recommendations is 30 days from the issuance date of this notice by the Commission.

All documents may be filed electronically via the Internet. See, 18 CFR 385.2001(a)(1)(iii) and the instructions on the Commission's Web site at http://www.ferc.gov/docs-filing/efiling.asp. If unable to be filed electronically, documents may be paper-filed. To paper-file, an original and seven copies should be mailed to: Secretary, Federal Energy Regulatory Commission, 888 First Street NE., Washington, DC 20426. Commenters can submit brief comments up to 6,000 characters, without prior registration, using the eComment system at http://www.ferc.gov/docs-filing/ecomment.asp. You must include your name and contact information at the end of your comments.

Please include the project number (P-2219-046) on any comments, motions, or recommendations filed.

k. Description of Request: Due to the October 9, 2014 permanent injunction ruling by the Sixth Judicial District Court of Garfield County, Utah prohibiting the licensee from continuing to provide the minimum flow releases required under U.S. Forest Service (USFS) 4(e) Condition 14(1) due to a conflict with senior water rights, the licensee is proposing new mitigation measures designed to replace the Water Release Schedule and improve Colorado River cutthroat habitat quality. The licensee requests approval of three new mitigation measures as the primary replacements for the Water Release Schedule stipulated under Condition No. 14(1) of the Commission's August 31, 2007 Order Issuing New License. Specifically, the licensee proposes to replace a culvert crossing under USFS road 30166 to improve passage of all life stages of Colorado River cutthroat trout; remove two fish passage barriers located in the West Fork of Boulder Creek to improve system connectivity with the East Fork; and install a fish trap to support a trapping and spawning operation for native Colorado River cutthroat trout to benefit the Project area and elsewhere within the local watershed populations.

l. Locations of the Application: A copy of the application is available for inspection and reproduction at the Commission's Public Reference Room, located at 888 First Street NE., Room 2A, Washington, DC 20426, or by calling (202) 502-8371. This filing may also be viewed on the Commission's Web site at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project operations, which are the subject of the variance. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: July 27, 2015.
Kimberly D. Bose,
Secretary.

[FR Doc. 2015-18839 Filed 7-30-15; 8:45 am]

BILLING CODE 6717-01-P